DEPARTMENT OF THE INTERIOR

National Park Service

Draft Environmental Impact Statement/General Management Plan; Santa Monica Mountains National Recreation Area, Los Angeles and Ventura Counties, CA; Notice of Availability

SUMMARY: Pursuant to section102(2)(c) of the National Environmental Policy Act of 1969 (Public Law 91-190, as amended), the National Park Service, Department of the Interior, has prepared a draft environmental impact statement assessing the potential impacts of the proposed General Management Plan (GMP) for Santa Monica Mountains National Recreation Area. This conservation planning and environmental impact analysis effort to date has identified and analyzed five alternatives (and appropriate mitigation strategies) for the management and use of the Santa Monica Mountains National Recreation Area over the next fifteen to twenty years.

Proposal and Alternatives: The draft environmental impact statement (DEIS) includes five alternatives, including the “no action” (existing conditions) alternative. The No Action Alternative assumes that physical facilities would remain largely unchanged and staffing and operational funding would remain relatively constant over the next fifteen to twenty years. The Preferred Alternative incorporates the exceptional elements of all of the alternatives to provide protection of significant natural and cultural resources while promoting compatible recreation and educational opportunities. The Preservation Alternative emphasizes the preservation of all natural and cultural systems and removing some park-related development. Virtual media and exhibits would provide visitors with alternative experiences and information. Visitor disturbance would be reduced while visitor appreciation for the resource would increase. The Education Alternative would promote strong environmental and cultural education programs that reach the public and especially the school systems. The Recreation Alternative maximizes recreation with any new park development in non-sensitive areas.

Comments: Printed or CD-ROM copies of the DEIS are available for public review at Park Headquarters, as well as at many public libraries and federal offices in southern California. In addition the document is posted on the internet at www.nps.gov/samo. Inquiries and requests for copies may also be directed to: Superintendent, Santa Monica Mountains National Recreation Area, 401 W. Hillcrest Drive, Thousand Oaks, California, 91360. The telephone number for the park is (805) 370-2300. Interested individuals, organizations, and agencies wishing to provide information or suggest issues and concerns to be addressed in future land management are encouraged to address these to the Superintendent, Santa Monica Mountains National Recreation Area. All written comments must be postmarked not later than February 28, 2001.

If individuals submitting comments request that their name or/and address be withheld from public disclosure, it will be honored to the extent allowable by law. Such requests must be stated prominently in the beginning of the comments. There may also be circumstances wherein the NPS will withhold a respondent's identity as allowable by law. As always: NPS will make available to public inspection all submissions from organizations and businesses; and, anonymous comments may not be considered.

Public Meetings: Five public meetings will be held in the vicinity surrounding the park. The particular locations selected for these meetings were determined based upon responses received from the public during the scoping process. The meetings scheduled are: February 5, 2001 (Calabasas/Agoura Hills); February 6, 2001 (Santa Monica); February 7, 2001 (Los Angeles); February 8, 2001 (Malibu); February 9, 2001 (Thousand Oaks). Confirmed details as to specific locations and times will be announced in local newspapers, available at the internet site identified above, or can be obtained by calling the park at (805) 370-2341.

Decision: After the formal DEIS review period has concluded, all comments and suggestions received will be considered in preparing the final EIS. Currently the final EIS is anticipated in the fall of 2001; its availability will be similarly announced in the Federal Register. Subsequently a Record of Decision would be executed no sooner than 30 (thirty) days after the release of the final EIS. The official responsible for approval of the DEIS/GMP is the Regional Director, Pacific West Region; the official responsible for implementation of the approved GMP is the Superintendent, Santa Monica Mountains National Recreation Area.

Dated: December 4, 2000.
James R. Shevock,
Acting Regional Director, Pacific West Region.

[FR Doc. 00-31915 Filed 12-13-00; 8:45 am]

BILLING CODE 4310-70-P